DEPARTMENT OF TRANSPORTATION

Federal Aviation Administration

14 CFR Part 71

[Docket No. FAA-2020-0642; Airspace Docket No. 19-AWP-98]

RIN 2120-AA66

Amendment of V-25, V-27, V-494,V-108, V-301, and T-257 in the Vicinity of Santa Rosa, CA

AGENCY: Federal Aviation Administration (FAA), DOT.

ACTION: Final rule; correction.

SUMMARY: This action corrects a final rule published by the FAA in the Federal Register on June 4, 2021 that amends VHF Omnidirectional Range (VOR) Federal airways V-25, V-27,V-494, V-108, V-301, and United States Area Navigation route (RNAV) T-257 in the vicinity of Santa Rosa, CA. This action makes an editorial correction to include the Mendocino VOR, which was inadvertently deleted from the legal description for V-494. Amendments are due to the planned decommissioning of the Santa Rosa, CA VOR/Distance Measuring Equipment (DME) navigation aid (NAVAID) which provides navigation guidance for portions of the affected airways. The Santa Rosa VOR/DME is being decommissioned as part of the FAA's VOR Minimum Operational Network (MON) program.

DATES: Effective date 0901 UTC, August 12, 2021. The Director of the Federal Register approves this incorporation by reference action under 1 CFR part 51, subject to the annual revision of FAA Order 7400.11 and publication of conforming amendments.

ADDRESSES: FAA Order 7400.11E, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11E at NARA, email: fedreg.legal@nara.gov or go to https://www.archives.gov/federal-register/cfr/ibr-locations.html.

FOR FURTHER INFORMATION CONTACT: Christopher McMullin, Rules and Regulations Group, Office of Policy, Federal Aviation Administration, 800 Independence Avenue SW, Washington, DC 20591; telephone: (202) 267-8783.

SUPPLEMENTARY INFORMATION:

History

The FAA published a notice of proposed rulemaking for Docket No. FAA-2020-0642 in the Federal Register (85 FR 47928; August 7, 2020) and a final rule (86 FR 29946; June 4, 2021), amending VOR Federal airways V-25, V-27, V-494, V-108, V-301, and RNAV route T-257 in the vicinity of Santa Rosa, CA, due to the planned decommissioning of the Santa Rosa, CA, VOR/DME NAVAID. Subsequent to the publication, it was determined that Mendocino, CA, VOR was missing from the legal description of V-494. This rule corrects that error by including Mendocino, CA, VOR in its appropriate place in the V-494 legal description. This is an editorial change only and does not alter the alignment of the route as shown on aeronautical charts, and does not affect the use of the route by aircraft.

VOR Federal airways are published in paragraph 6010(a) of FAA Order 7400.11E dated July 21, 2020, and effective September 15, 2020, which is incorporated by reference in 14 CFR 71.1. The VOR Federal airway listed in this document will be subsequently published in the Order.

Availability and Summary of Documents for Incorporation by Reference

This document amends FAA Order 7400.11E, Airspace Designations and Reporting Points, dated July 21, 2020, and effective September 15, 2020. FAA Order 7400.11E is publicly available as listed in the ADDRESSES section of this document. FAA Order 7400.11E lists Class A, B, C, D, and E airspace areas, air traffic service routes, and reporting points.

Correction to Final Rule

The description of VOR Federal Airway V-494, as published on page 29948, in column 1 beginning on line 10, in the Federal Register of June 4, 2021 (86 FR 29946), FR Doc. 2021-11651, is corrected as follows:

V-494 [Corrected]

From Crescent City, CA, via INT Crescent City 195° and Fortuna, CA, 345° radials; Fortuna; INT Fortuna 170° and Mendocino, CA 321° radials; Mendocino; INT Point Reyes, CA 006° and Scaggs Island, CA 314° radials; Sacramento, CA; INT Sacramento 038° and Squaw Valley, CA, 249° radials; Squaw Valley; INT Squaw Valley 078° and Hazen, NV, 244° radials; Hazen.

* * * * *

Issued in Washington, DC, on July 9, 2021.
George Gonzalez,
Acting Manager, Rules and Regulations Group.

[FR Doc. 2021-15004 Filed 7-14-21; 8:45 am]

BILLING CODE 4910-13-P